DEPARTMENT OF HOUSING AND URBAN DEVELOPMENT

[Docket No. FR-5281-N-96]

Recovery Act Reporting for the Community Development Block Grant Program for Indian Tribes and Alaska Native Villages (ICDBG)

AGENCY: Office of the Chief Information Officer, HUD.

ACTION: Notice.

SUMMARY: The proposed information collection requirement described below has been submitted to the Office of Management and Budget (OMB) for review, as required by the Paperwork Reduction Act. The Department is soliciting public comments on the subject proposal.

The American Recovery and Reinvestment Act of 2009 (Recovery Act) provided a one-time Indian Community Development Block Grant funding to eligible Indian Tribes (or Tribal organization on behalf of Indian Tribes) for the development of decent housing, environment, and economic opportunities for low and moderate-income persons in Indian service areas.

DATES: Comments Due Date: December 21, 2009.

ADDRESSES: Interested persons are invited to submit comments regarding this proposal. Comments should refer to the proposal by name and/or OMB approval Number (2577-0263) and should be sent to: HUD Desk Officer, Office of Management and Budget, New Executive Office Building, Washington, DC 20503; fax: 202-395-5806.

FOR FURTHER INFORMATION CONTACT: Lillian Deitzer, Reports Management Officer, QDAM, Department of Housing and Urban Development, 451 Seventh Street, SW., Washington, DC 20410; e-mail Lillian Deitzer at: Lillian_L._Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Recovery Act Reporting for the Native American Housing Block Grant (NAHBG) Competitive Program.

OMB Approval Number: 2577-0263.

Form Numbers: SF-425.

Description of the Need for the Information and Its Proposed Use:The American Recovery and Reinvestment Act of 2009 (Recovery Act) provided a one-time Indian Community Development Block Grant funding to eligible Indian Tribes (or Tribal organization on behalf of Indian Tribes) for the development of decent housing, environment, and economic opportunities for low and moderate-income persons in Indian service areas.

Frequency of Submission: Quarterly, Annually, Other (final report).

| Number of respondents | Annual responses | × | Hours per response | = | Burden hours
Reporting Burden | 19 | 6 |  | 12.83 |  | 1,463

Total Estimated Burden Hours: 1,463.

Status: Revision of a currently approved collection.

Authority: Section 3507 of the Paperwork Reduction Act of 1995, 44 U.S.C. 35, as amended.

Dated: November 16, 2009
Lillian Deitzer,
Departmental Reports Management Officer, Office of the Chief Information Officer.

[FR Doc. E9-27856 Filed 11-18-09; 8:45 am]

BILLING CODE 4210-67-P